FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 23, 2017.

A. Federal Reserve Bank of St. Louis (David L. Hubbard, Senior Manager) P.O. Box 442, St. Louis, Missouri 63166-2034. Comments can also be sent electronically to Comments.applications@stls.frb.org:

1. John Christopher Harlin, Trustee of the John Christopher Harlin Revocable Trust, John L. Harlin Trustee of the Hugh T. Harlin Trust, John L. Harlin, Trustee UTA John L. Harlin Trust, Linda K. Harlin Trustee UTA Linda K. Harlin Trust, Abigail Christen Harlin, Bradley J. Hardcastle Trustee of the Bradley J. Hardcastle Trust, all of Gainesville, Missouri, Lisa M. Gables of Clifton, Virginia, and Joe D. Hardcastle and B. Sherrill Hardcastle Trustees of the Joe D. Hardcastle Revocable Trust, B. Sherrill Hardcastle and Joe D. Hardcastle Trustees of the B. Sherrill Hardcastle Revocable Trust, Sherrill Hardcastle Custodian under MO-UTMA FBO Faith Morgan Harlin, all of Lebanon, Missouri; collectively as a group acting in concert, to retain shares of Century Bancshares, Inc., Gainesville, Missouri, and thereby indirectly retain shares of, Century Bank of the Ozarks, Gainesville, Missouri, and Ozarks Heritage Financial Group, Inc., Gainesville, Missouri and thereby retain shares of Legacy Bank & Trust Company, Rogersville, Missouri.

Board of Governors of the Federal Reserve System, March 3, 2017.
Yao-Chin Chao,
Assistant Secretary of the Board.

[FR Doc. 2017-04564 Filed 3-7-17; 8:45 am]

BILLING CODE 6210-01-P